DEPARTMENT OF LABOR

Office of the Secretary

Submission for OMB Review; Comment Request

August 12, 2002.

The Department of Labor (DOL) has submitted the following public information collection requests (ICRs) to the Office of Management and Budget (OMB) for review and approval in accordance with the Paperwork Reduction Act of 1996 (Pub. L. 104-13, 44 U.S.C. Chapter 35). A copy of each individual ICR, with applicable supporting documentation, may be obtained by calling the Department of Labor. To obtain documentation contact Marlene Howze at ((202) 693-4158 or e-mail Howze-Marlene@dol.gov.

Comments should be sent to the Office of Information and Regulatory Affairs, Attn: OMB Desk Officer for BLS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are respond, including through the use of appropriate automated, electronic, mechanical, or other technological collection techniques or other forms of information technology, e.g., permitting electronic submission of responses.

Type of Review: Revision of a currently approved collection.

Agency: Bureau of Labor Statistics (BLS).

Title: The Consumer Expenditure Surveys: The Quarterly Interview and the Diary.

OMB Number: 1220-0050.

Affected Public: Individuals or households

Form | Total respondents | Frequency | Total responses | Average minutes | Estimated total burden (in hours)
CE Quarterly Interview (CAPI) Instrument | 9,629 | 4 | 38,516 | 90 | 57,774
Quarterly Interview Re-interview | 2,118 | 1 | 2,118 | 15 | 530
CE Diary: CE-801, Record of Your Daily Expenses | 7,745 | 2 | 15,490 | 105 | 27,108
CE Diary: CE-802, Household Questionnaire | 7,745 | 3 | 23,235 | 25 | 9,681
CE Diary Re-interview: CE-880, CE-880 (N) | 1,293 | 1 | 1,293 | 12 | 259
Total | 17,374 |  | 80,652 |  | 95,352
Please note: Re-interview respondents are a subset of the original number of respondents for each survey. Therefore, they are not counted again in the totals.

Total Annualized Capital/Startup Costs: $0.

Total Annual Costs (operating/maintaining systems or purchasing services): $0.

Description: The Consumer Expenditure (CE) Surveys are used to gather information on expenditures, income, and other related subjects. These data are used to periodically update the National Consumer Price Index. The BLS will use data collected in the CE Surveys to (1) provide data required for the CPI revision; (2) provide a continuous flow of data on income and expenditure patters for use in economic analysis and policy formulation; and (3) provide a flexible consumer survey vehicle that is available for use by other Federal Government agencies. In addition, the data are used by a variety of researchers in academia and the private sector. The data are collected from a national probability sample of households designed to represent the total civilian non-institutional population. The BLS conducts the CE Survey under the authority of Title 29, Section 2 of the United States Code. The Census Bureau collects information in the CE Surveys under the authority of Title 13, United States Code, Section 8b, that allows the Census Bureau to undertake surveys for other agencies.

Ira L. Mills
DOL Clearance Officer.

[FR Doc. 02-21088 Filed 8-19-02; 8:45 am]

BILLING CODE 4510-24-M